DEPARTMENT OF DEFENSE

Office of the Secretary

[Docket ID DOD-2009-HA-0159]

Extension of a Currently Approved Collection

AGENCY: Office of the Assistant Secretary of Defense for Health Affairs, DoD.

ACTION: Notice.

SUMMARY: In compliance with Section 3506(c)(2)(A) of the Paperwork Reduction Act of 1995, the Office of the Assistant Secretary of Defense for Health Affairs announces the proposed extension of a public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 4, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://regulations.gov as they are received without change, including any personal identifiers or contact information.

FOR FURTHER INFORMATION CONTACT: To request more information on this proposed information collection or to obtain a copy of the proposal and associated collection instruments, please write to the Office of the Assistant Secretary of Defense for Health Affairs (OASD), TRICARE Operations Division, Attn: Ms. Shane Pham, 5111 Leesburg Pike, Suite 810(A), Falls Church, VA 22041-3206, or call TRICARE Operations Division, at 703-681-0039 ext. 8666.

Title; Associated Form; and OMB Number: TRICARE Prime Enrollment Application/PCM Change Form DD Form 2876, and TRICARE Prime Disenrollment Application; DD Form 2877; OMB Number 0720-0008.

Needs and Uses: This information is collected in accordance with the National Defense Authorization Act for Fiscal Year 1001 (Pub. L. 106-398), section 723(b)(E). These collection instruments serve as applications for the Enrollment, Primary Care Manager (PCM) Change and Disenrollment for the Department of Defense's TRICARE Prime program established in accordance with title 10 U.S.C. 1099 (which calls for a healthcare enrollment system). Monthly payment options for retiree enrollment fees for TRICARE Prime are established in accordance with title 10 U.S.C. 1097a(c). The information collected on the TRICARE Prime Enrollment Application/PCM Change Form provides the necessary data to determine beneficiary eligibility, to identify the selection of a health care option, and to change the designated PCM when the beneficiary is relocating or merely requests a local PCM change. The information collected on the TRICARE Prime Disenrollment Form provides the necessary data to disenroll a beneficiary from TRICARE Prime. The Disenrollment Application is needed to implement disenrollment from TRICARE Prime, TRICARE Prime Remote or the Uniformed Services Family Health Plan as requested by the enrollee. Failure to provide information will result in continued enrollment and beneficiaries' responsibility for payment of an enrollment fee.

Affected Public: Individuals or Households.

Annual Burden Hours: 22,317.

Number of Respondents: 72,905.

Responses per Respondent: 1.

Average Burden per Response: TRICARE Prime Enrollment Application/PCM Change Form: 20 minutes or .33% of an hour/TRICARE Prime Disenrollment—5 minutes or .083%. (average burden per response for completing both forms is 18.36 minutes or .30% of an hour).

Frequency: On occasion.

SUPPLEMENTARY INFORMATION:

Summary of Information Collection

The Department of Defense established TRICARE Prime as a managed-care option, similar to a civilian HMO (health maintenance organization). Active duty service members are required to be enrolled in TRICARE Prime or TRICARE Prime Remote. They must take action to enroll by filling out the appropriate enrollment form and submitting it to the Managed Care Support Contractor (MCSC). TRICARE Prime is also available to other TRICARE beneficiaries who are also required to fill out the appropriate enrollment or disenrollment forms. TRICARE Prime enrollee's health care is coordinated by a primary care manager (PCM) whom could be a part of a military treatment facility, a civilian network or TRICARE Prime Remote where eligible. In order to carry out this program, it is necessary that certain beneficiaries electing to enroll/disenroll in TRICARE Prime, TRICARE Prime Remote or change a PCM complete an enrollment application request. Completion of the enrollment forms is an essential element of the TRICARE Prime program.

Dated: October 29, 2009.
Mitchell S. Bryman,
Alternate OSD Federal Register Liaison Officer, Department of Defense.

[FR Doc. E9-26407 Filed 11-2-09; 8:45 am]

BILLING CODE 5001-06-P